DEPARTMENT OF EDUCATION

Office of Postsecondary Education; Overview Information; Developing Hispanic-Serving Institutions Program; Notice Inviting Applications for New Awards for Fiscal Year (FY) 2004

Catalog of Federal Domestic Assistance (CFDA) Number: 84.031S.

DATES: Applications Available: January 16, 2004.

Deadline for Transmittal of Applications: March 3, 2004.

Deadline for Intergovernmental Review: May 3, 2004.

Eligible Applicants: Except as noted below, institutions of higher education that qualify as eligible Hispanic-Serving Institutions are eligible to apply for new Individual Development Grants and Cooperative Arrangement Development Grants under the Developing Hispanic-Serving Institutions Program. The requirements for satisfying the definition of an eligible “Hispanic-Serving Institution” (HSI) are set forth in the Notice Inviting Applications for Designation as Eligible Institutions for Fiscal Year 2004 that was published in the Federal Register on December 9, 2003 (68 FR 68614). The complete HSI eligibility requirements are contained in 34 CFR 606.2 through 606.5 and can be accessed from the following Web site: http://www.ed.gov/news/fedregister.

Relationship Between HSI and Title III, Part A Programs

Notes: 1. A grantee under the Developing HSI Program, authorized under Title V of the Higher Education Act of 1965, as amended (HEA), may not receive a grant under any Title III, Part A Program. The Title III, Part A Programs include the Strengthening Institutions, American Indian Tribally Controlled Colleges and Universities, and Alaska Native and Native Hawaiian-Serving Institutions Programs. Further, a current Developing HSI Program grantee may not give up its grant in order to receive a grant under any Title III, Part A Program.

2. An HSI that does not fall within the limitation described in Note 1 may apply for a FY 2004 grant under all Title III, Part A Programs for which it is eligible, as well as under the Developing HSI Program. However, a successful applicant may receive only one grant.

Estimated Available Funds: Although Congress has not enacted a final appropriation for FY 2004, the Department is inviting applications for this competition now so that it may be prepared to make awards following final action on the Department's appropriations bill. Based on the Congressional action to date, we estimate $17.776 million will be available for new awards under this program for FY 2004. The actual level of funding, if any, depends on final congressional action.

Estimated Range of Awards: $475,000-$700,000.

Estimated Average Size of Awards: Individual Development Grant: $475,000 per year. Cooperative Arrangement Development Grant: $650,000 per year.

Estimated Number of Awards: Individual Development Awards: 26. Cooperative Arrangement Development Awards: 8.

Note: The Department is not bound by any estimates in this notice. Applicants should periodically check the HSI Program Web site for further information. The address is: http://www.ed.gov/programs/idueshsi/index.html.

Project Period: Up to 60 months.

Full Text of Announcement

I. Funding Opportunity Description

Purpose of Program: The Developing HSI Program assists HSIs in expanding their capacity to serve Hispanic and low-income students by enabling them to improve their academic quality, institutional management, and fiscal stability and to increase their self-sufficiency.

Priorities: This competition includes two competitive preference priorities taken from the statute for this program and four invitational priorities. These priorities are as follows:

In accordance with 34 CFR 75.105(b)(2)(iv), the following priorities are from sections 511(d) and 514(b) of the HEA.

Competitive Preference Priorities: For FY 2004, these priorities are competitive preference priorities. Under 34 CFR 75.105(c)(2)(ii) we give preference to an application that meets these priorities over an application of comparable merit that does not meet the priorities.

These priorities are:

Competitive Preference Priority 1: Section 511(d) of the HEA provides that we must give priority to applications for development grants that contain satisfactory evidence that the HSI has entered into, or will enter into, a collaborative arrangement with at least one local educational agency or community-based organization to provide that agency or organization with assistance (from funds other than funds provided under Title V of the HEA) in reducing dropout rates for Hispanic students, improving rates of academic achievement for Hispanic students, and increasing the rates at which Hispanic secondary school graduates enroll in higher education.

Competitive Preference Priority 2: Section 514(b) of the HEA provides that we must give priority to applications for cooperative arrangement grants that are geographically and economically sound or will benefit the applicant HSI.

We are particularly interested in applications that address the following invitational priorities with respect to cooperative arrangement grant applications only.

Invitational Priorities: Under 34 CFR 75.105(c)(1) we do not give an application that meets these invitational priorities a competitive or absolute preference over other applications.

These priorities are:

Invitational Priority 1

Cooperative arrangements between two-year and four-year institutions that aim to increase the transfer of Hispanic students from two-year to four-year institutions and the retention of Hispanic students at the four-year institutions.

Invitational Priority 2

Cooperative arrangements between institutions that develop and share technological resources in order to enhance each institution's ability to serve the needs of low-income communities or Hispanic populations.

Invitational Priority 3

Cooperative arrangements between institutions where one of the institutions in the arrangement is not a current grantee under the Developing HSI Program.

Invitational Priority 4

Cooperative arrangements that include institutions from more than one university or college system.

Program Authority: 20 U.S.C. 1101-1101d, 1103-1103g.

Applicable Regulations: (a) The Education Department General Administrative Regulations (EDGAR) in 34 CFR parts 74, 75, 77, 79, 81, 82, 84, 85, 86, 97, 98, and 99. (b) The regulations for this program in 34 CFR part 606.

II. Award Information

Type of Award: Discretionary grant. Five-year Individual Development Grants and Cooperative Arrangement Development Grants will be awarded in FY 2004. Planning grants will not be awarded in FY 2004.

Estimated Available Funds: Although Congress has not enacted a final appropriation for FY 2004, the Department is inviting applications for this competition now so that it may be prepared to make awards following final action on the Department's appropriations bill. Based on the Congressional action to date, we estimate $17.776 million will be available for new awards under this program for FY 2004. The actual level of funding, if any, depends on final congressional action.

Estimated Range of Awards: $475,000-$700,000.

Estimated Average Size of Awards: Individual Development Grant: $475,000 per year. Cooperative Arrangement Development Grant: $650,000 per year.

Estimated Number of Awards: Individual Development Awards: 26. Cooperative Arrangement Development Awards: 8.

Note: The Department is not bound by any estimates in this notice. Applicants should periodically check the HSI Program Web site for further information. The address is: http://www.ed.gov/programs/idueshsi/index.html.

Project Period: Up to 60 months.

III. Eligibility Information

1. Eligible Applicants: Except as noted below, institutions of higher education that qualify as eligible HSI are eligible to apply for new Individual Development Grants and Cooperative Arrangement Development Grants under the Developing HSI Program. The requirements for satisfying the definition of an eligible HSI are set forth in the Notice Inviting Applications for Designation as Eligible Institutions for Fiscal Year 2004 that was published in the Federal Register on December 9, 2003 68 FR 68614. The complete HSI eligibility requirements are contained in 34 CFR 606.2 through 606.5 and can be accessed from the following Web site: http://www.ed.gov/news/fedregister.

Relationship between HSI and Title III, Part A Programs

Notes: 1. A grantee under the Developing HSI Program, authorized under the HEA, may not receive a grant under any Title III, Part A Program. The Title III, Part A Programs include the Strengthening Institutions, American Indian Tribally Controlled Colleges and Universities, and Alaska Native and Native Hawaiian-Serving Institutions Programs. Further, a current Developing HSI Program grantee may not give up its grant in order to receive a grant under any Title III, Part A Program.

2. An HSI that does not fall within the limitation described in Note 1 may apply for a FY 2004 grant under all Title III, Part A Programs for which it is eligible, as well as under the Developing HSI Program. However, a successful applicant may receive only one grant.

Cost Sharing or Matching: There are no cost sharing or matching requirements unless the grantee uses a portion of its grant for establishing or improving an endowment fund. If it does, it must match with non-Federal funds the amount of grant funds used for this purpose. (20 U.S.C. 1101c).

IV. Application and Submission Information

1. Address to Request Application Package: Darlene Collins, U.S. Department of Education, 1990 K Street, NW., 6th Floor, Washington, DC 20006-8513. Telephone: (202) 502-7576 or by e-mail: Darlene.Collins@ed.gov.

If you use a telecommunications device for the deaf (TDD), you may call the Federal Information Relay Service (FIRS) at 1-800-877-8339.

Individuals with disabilities may obtain a copy of the application package in an alternative format (e.g., Braille, large print, audiotape, or computer diskette) by contacting the program contact person listed in this section. However, the Department is not able to reproduce in an alternative format the standard forms included in the application package.

2. Content and Form of Application Submission: Requirements concerning the content of an application, together with the forms you must submit, are in the application package for this program.

Page Limit: We have established mandatory page limits for both the Individual Development Grant and the Cooperative Arrangement Development Grant applications. You must limit your entire application to the equivalent of no more than 85 pages for the Individual Development Grant and 120 pages for the Cooperative Arrangement Development Grant, using the following standards:

• A “page” is 8.5″ × 11″, on one side only, with 1″ margins at the top, bottom, and both sides.

• Double space (no more than three lines per vertical inch) all text in the application narrative, including titles and headings. You may single space the abstract, footnotes, quotations, references, captions, tables, and forms (including the ED Forms), however, you must still use font size 12.

• Use a font that is size 12.

We will reject your application if—

• You apply these standards and exceed the page limit; or

• You apply other standards and exceed the equivalent of the page limit.

3. Submission Dates and Times:

Applications Available: January 16, 2004.

Deadline for Transmittal of Applications: March 3, 2004.

The dates and times for the transmittal of applications by mail or by hand (including a courier service or commercial carrier) are in the application package for this program. The application package also specifies the hours of operation of the e-Application Web site.

We do not consider an application that does not comply with the deadline requirements.

Deadline for Intergovernmental Review: May 3, 2004.

4. Intergovernmental Review: This program is subject to Executive Order 12372 and the regulations in 34 CFR part 79. Information about Intergovernmental Review of Federal Programs under Executive Order 12372 is in the application package for this program.

5. Funding Restrictions: We specify unallowable activities in 34 CFR 606.10. We reference additional regulations outlining funding restrictions in the Applicable Regulations section of this notice.

6. Other Submission Requirements: Instructions and requirements for the transmittal of applications by mail or by hand (including a courier service or commercial carrier) are in the application package for this program. Application Procedures: The Government Paperwork Elimination Act (GPEA) of 1998 (Pub. L. 105-277) and the Federal Financial Assistance Management Improvement Act of 1999 (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

Some of the procedures in these instructions for transmitting applications differ from those in the Education Department General Administrative Regulations (EDGAR) (34 CFR 75.102). Under the Administrative Procedure Act (5 U.S.C. 553), the Department generally offers interested parties the opportunity to comment on proposed regulations. However, these amendments make procedural changes only and do not establish new substantive policy. Therefore, under 5 U.S.C. 553(b)(A), the Secretary has determined that proposed rulemaking is not required.

We are requiring that applications for grants under the Developing HSI Program—CFDA Number 84.031S be submitted electronically using the Electronic Grant Application System (e-Application) available through the Department's e-GRANTS system. The e-GRANTS system is accessible through its portal page at: http://e-grants.ed.gov.

If you are unable to submit an application through the e-GRANTS system, you may submit a written request for a waiver of the electronic submission requirement. In your request, you should explain the reason or reasons that prevent you from using the Internet to submit your application. Address your request to: Darlene Collins, U.S. Department of Education, 1990 K Street, NW., room 6032, Washington, DC 20006-8513. Please submit your request no later than two weeks before the application deadline date.

If, within two weeks of the application deadline date, you are unable to submit an application electronically, you must submit a paper application by the application deadline date in accordance with the transmittal instructions in the application package. The paper application must include a written request for a waiver documenting the reasons that prevented you from using the Internet to submit your application.

Pilot Project for Electronic Submission of Applications: We are continuing to expand our pilot project for electronic submission of applications to include additional formula grant programs and additional discretionary grant competitions. The Developing HSI Program—CFDA Number 84.031S is one of the programs included in the pilot project. If you are an applicant under the Developing HSI Program, you must submit your application to us in electronic format or receive a waiver.

The pilot project involves the use of e-Application. If you use e-Application, you will be entering data online while completing your application. You may not e-mail an electronic copy of a grant application to us. The data you enter online will be saved into a database. We shall continue to evaluate the success of e-Application and solicit suggestions for its improvement.

If you participate in e-Application, please note the following:

• When you enter the e-Application system, you will find information about its hours of operation. We strongly recommend that you do not wait until the application deadline date to initiate an e-Application package.

• You will not receive additional point value because you submit a grant application in electronic format, nor will we penalize you if you submit an application in paper format.

• You must submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on other forms at a later date.

Application Deadline Date Extension in Case of System Unavailability: If you are prevented from submitting your application on the application deadline date because the e-Application system is unavailable, we will grant you an extension of one business day in order to transmit your application electronically, by mail, or by hand delivery. We will grant this extension if—

1. You are a registered user of e-Application and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under For Further Information Contact (see VII. Agency Contact) or (2) the e-GRANTS help desk at 1-888-336-8930.

You may access the electronic grant application for the Developing HSI Program at: http://e-grants.ed.gov.

V. Application Review Information

1. Selection Criteria: The selection criteria for this program are in 34 CFR 606.21 and 606.22.

2. Review and Selection Process: Additional factors we consider in selecting an application for an award are as follows: In tie-breaking situations described in 34 CFR 606.23, the HSI Program regulations require that we award one additional point to an application from an IHE that has an endowment fund for which the 2000-2001 market value per full-time equivalent (FTE) student was less than the comparable average per FTE student at a similar type IHE. We also award one additional point to an application from an IHE that had expenditures for library materials in 2000-2001 per FTE student that were less than the comparable average per FTE student at a similar type IHE.

For the purpose of these funding considerations, an applicant must be able to demonstrate that the market value of its endowment fund per FTE student and library expenditures per FTE student were less than the average expenditure per FTE student when calculated using the data submitted by applicants for the year 2000-2001.

If a tie still remains after applying the additional point(s), we will determine the ranking of applicants based on the lowest combined library expenditures per FTE student and endowment values per FTE student.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118, 34 CFR 75.720 and in 34 CFR 606.31.

4. Performance Measures: The Secretary has established the following key performance measures for assessing the effectiveness of the Developing HSI Program: (1) The percentage of Title V project goals relating to the improvement of academic quality that are met or exceeded will increase or be maintained over time. (2) The percentage of Title V project goals relating to the improvement of student services and student outcomes that are met or exceeded will increase or be maintained over time. (3) The percentage of Title V project goals relating to the improvement of institutional management and fiscal stability that are met or exceeded will increase or be maintained over time.

VII. Agency Contact

For Further Information Contact: Darlene Collins, U.S. Department of Education, 1990 K Street, NW., 6th Floor, Washington, DC 20006-8513. Telephone: (202) 502-7576 or by e-mail: Darlene.Collins@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 14, 2004.
Sally L. Stroup,
Assistant Secretary, Office of Postsecondary Education.

[FR Doc. 04-1140 Filed 1-14-04; 3:00 pm]

BILLING CODE 4000-01-P